NUCLEAR REGULATORY COMMISSION

DEPARTMENT OF THE INTERIOR

BUREAU OF INDIAN AFFAIRS

BUREAU OF LAND MANAGEMENT

DEPARTMENT OF TRANSPORTATION

SURFACE TRANSPORTATION BOARD

[Docket No. 72-22]

Notice of Availability of Final Environmental Impact Statement for the Proposed Private Fuel Storage, L.L.C.; Independent Spent Fuel Storage Installation on the Reservation of the Skull Valley Band of Goshute Indians and the Related Transportation Facility in Tooele County, UT

AGENCY: Nuclear Regulatory Commission; Bureau of Indian Affairs, Interior; Bureau of Land Management, Interior; Surface Transportation Board, Transportation.

ACTION: Notice of availability of Final Environmental Impact Statement.

SUMMARY: Notice is hereby given that the U.S. Nuclear Regulatory Commission (NRC), in cooperation with the U.S. Department of Interior's Bureau of Indian Affairs (BIA) and Bureau of Land Management (BLM), and the Surface Transportation Board (STB), has published a Final Environmental Impact Statement (FEIS), “Final Environmental Impact Statement for the Construction and Operation of an Independent Spent Fuel Storage Installation on the Reservation of the Skull Valley Band of Goshute Indians and the Related Transportation Facility in Tooele County, Utah” NUREG-1714, January 2002, regarding the proposal of Private Fuel Storage, L.L.C. (PFS) to construct and operate an independent spent fuel storage installation (ISFSI) on the Reservation of the Skull Valley Band of Goshute Indians and construct and operate a new rail line and rail siding.

The Reservation is located approximately 44 km (27 miles) west-southwest of Tooele, Utah. PFS intends to transport spent nuclear fuel (SNF) by rail from commercial power reactor sites to an existing rail line north of Skull Valley. To transport the SNF from the existing rail line to the proposed facility, PFS proposes the construction and operation of a new rail siding and rail line on public land administered by BLM. This FEIS discusses the purpose and need for the PFS proposal and describes the proposed action and its reasonable alternatives, including the No-action Alternative. The FEIS also discusses the environment potentially affected by the proposal, presents and compares the potential environmental impacts resulting from the proposed action and its alternatives, and identifies mitigation measures that could eliminate or lessen the potential environmental impacts.

The PFS proposal requires approval from four federal agencies: NRC, BIA, BLM, and STB. The environmental issues that each of these agencies must evaluate pursuant to the National Environmental Policy Act of 1969 (NEPA) are interrelated. Therefore, the agencies have cooperated in the preparation of this FEIS, and this document serves to satisfy each agency's statutory responsibilities under NEPA.

Based on the evaluation in this FEIS, the NRC, BIA, BLM, and STB environmental review staffs have concluded that (1) the measures required by Federal, State, and Tribal permitting authorities other than the Cooperating Agencies and (2) the mitigation measures that the Cooperating Agencies propose be required would reduce any short-or long-term adverse environmental impacts associated with the proposed action (i.e., construction and operation of the proposed ISFSI and rail line) to acceptable levels. This FEIS reflects the final analysis of the environmental impacts of the PFS proposal and its alternatives including the consideration of public comments received by the NRC. In addition, the FEIS provides summaries of the substantive public comments received within the time allotted for public comment on the draft EIS, and responses, as appropriate, to such comments.

ADDRESSES: The NRC maintains an Agencywide Documents Access and Management System (ADAMS), which provides text and image files of NRC's public documents. The FEIS and its appendices may be accessed through the NRC's Public Electronic Reading Room on the Internet at http://www.nrc.gov/reading-rm/adams.html. If you do not have access to ADAMS or if there are problems in accessing the documents located in ADAMS, contact the NRC Public Document Room (PDR) Reference staff at 1-800-397-4209, 301-415-4737 or by email to pdr@nrc.gov. The FEIS is also available for inspection at the Commission's Public Document Room, U.S. NRC's Headquarters Building, 11555 Rockville Pike (first floor), Rockville, Maryland. Upon written request and to the extent supplies are available, a single copy of the FEIS can be obtained for a fee by writing to the Office of the Chief Information Officer, Reproduction and Distribution Services Section, U.S. Nuclear Regulatory Commission, Washington, DC 20555-0001; by E-mail (DISTRIBUTION@nrc.gov); or by fax at (301) 415-2289.

FOR FURTHER INFORMATION CONTACT: Chester Poslusny Jr., Sr. Project Manager, Licensing and Inspection Directorate, Spent Fuel Project Office, Office of Nuclear Material Safety and Safeguards, U.S. Nuclear Regulatory Commission, Washington, DC 20555, Telephone (301) 415-1341, or E-mail (CXP1@nrc.gov).

SUPPLEMENTARY INFORMATION: The proposed action involves the construction and operation of a proposed SNF storage facility at a site (known as Site A) located on the Reservation, and transporting SNF from the existing railroad to the site by constructing a new rail siding and rail line to connect the proposed facility to the existing main line in Utah. This FEIS has been prepared in compliance with NEPA, NRC regulations for implementing NEPA (10 CFR Part 51), guidance provided by the Council on Environmental Quality (CEQ) regulations implementing the procedural provisions of NEPA (40 CFR Parts 1500-1508), STB regulations for implementing NEPA (49 CFR Part 1105), and BLM and BIA policy, procedures, and guidance documents.

Federal agencies' actions are considered in this FEIS. NRC's action is to grant or deny a 20-year license to PFS to receive, transfer, and possess SNF on the Reservation. BIA's action is to either approve or disapprove a 25-year lease between PFS and the Skull Valley Band for use of Reservation land to construct and operate the proposed facility. If granted, both the NRC license and the BIA lease could be renewed. BLM's action is to either grant one or deny both requests for rights-of-way through public land administered by the BLM for transporting SNF from the existing rail line to the proposed facility site. Approval of the proposed action would require amending the Pony Express Resource Management Plan. STB's action is to grant or deny PFS's application for a license to construct and operate a new rail line to the proposed facility site.

This FEIS sets forth not only the Cooperating Agencies' evaluation of the proposed action (Alternative 1) described above, but also their evaluation of the environmental impacts of the alternative actions. Alternatives involving the Skull Valley site include an alternative site location on the Reservation (known as Site B), and an alternative transportation method (i.e., heavy-haul vehicles). Consideration of an alternative site location on the Reservation and an alternative transportation method resulted in evaluating the following alternatives:

Alternative 2—the construction and operation of the proposed facility at Site B on the Reservation with a rail siding and a rail line similar to that described above.

Alternative 3—construction and operation of the proposed facility at Site A, construction and operation of a new Intermodal Transfer Facility (ITF) near Timpie, Utah, and use of heavy-haul vehicles to transport SNF to the Reservation.

Alternative 4—the construction and operation of the proposed facility at Site B with the same ITF and SNF transport described in Alternative 3 above.

Additionally, the FEIS compares the construction and operation of an SNF storage facility in Wyoming in lieu of the Skull Valley site. This comparison was made to determine if an identified alternative site is obviously superior to the proposed site. Lastly, the FEIS sets forth the Cooperating Agencies' evaluation of the No-Action Alternative, i.e, not to construct and operate the proposed facility in Skull Valley. Under the No-Action Alternative, the potential impacts of constructing and operating the proposed facility and associated SNF transportation facilities in Skull Valley would not occur.

As set forth in the FEIS, the Cooperating Agencies assessed the impacts of the proposed action and its alternatives on minerals, soils, water resources, air quality, ecological resources, socioeconomics and community resources, cultural resources, human health impact, noise, scenic qualities, recreation, and environmental justice. Additionally, the NRC staff performed an analysis and comparison of the costs and benefits of the proposed action.

Based on the evaluation in the FEIS, the NRC staff's preferred alternative is the proposed action, with implementation of the mitigation measures that the Cooperating Agencies propose be required. The BIA lease will not be approved or disapproved unless the NRC issues a license to PFS, and commitments to the mitigation measures are made by PFS. BIA did not indicate a preferred alternative in the DEIS, however in the FEIS, BIA has chosen the proposed action, based on consideration of environmental impacts and mitigation measures identified in the FEIS. A BLM decision to grant a right-of-way to PFS would be dependent upon the decisions made by the NRC and BIA. If the NRC issues a license to PFS for the proposed facility and BIA approves the lease, then BLM's preferred alternative would be to amend the Pony Express Resource Management Plan and issue a right-of-way for the new rail siding and rail line. Absent such findings by the NRC and BIA, BLM would not grant either of PFS' rights-of-way requests. BLM would require resolution of a planning restriction imposed by Section 2815 of the National Defense Authorization Act for Fiscal Year 2000, and completion of the plan amendment process in accordance with 43 CFR part 1600, prior to issuance of the right-of-way grant. Based on the information and analysis to date, the STB environmental review staff has concluded that the proposed project, with the implementation of the mitigation measures that the Cooperating Agencies propose be required, would not result in significant adverse impacts to the environment and that construction and operation of the proposed rail line is the environmentally preferred alternative.

Dated at Rockville, Maryland, this 11th day of January 2002.
For the Nuclear Regulatory Commission.
E. William Brach,
Director, Spent Fuel Project Office, Office of Nuclear Material Safety and Safeguards.

Dated at Washington, D.C., this 8th day of January 2002.
For the Surface Transportation Board.
Victoria J. Rutson,
Chief, Section of Environmental Analysis.

Dated at Salt Lake City, Utah, this 9th day of January 2002.
For the Bureau of Land Management.
Glenn A. Carpenter,
Field Office Manager, Salt Lake Field Office.

Dated at Phoenix, Arizona, this 9th day of January 2002.
For the Bureau of Indian Affairs.
Barry W. Welch,
Acting Director, Western Regional Office.

[FR Doc. 02-1351 Filed 1-17-02; 8:45 am]

BILLING CODE 7590-01-P